DEPARTMENT OF TRANSPORTATION

National Highway Traffic Safety Administration

[Docket No. NHTSA-2006-23684; Notice 1]

Continental Tire North America, Inc., Receipt of Petition for Decision of Inconsequential Noncompliance

Continental Tire North America, Inc. (Continental Tire) has determined that certain tires it produced in 2004 and 2005 do not comply with S5.5(d) of 49 CFR 571.139, Federal Motor Vehicle Safety Standard (FMVSS) No. 139, “New pneumatic radial tires for light vehicles.” Continental Tire has filed an appropriate report pursuant to 49 CFR part 573, “Defect and Noncompliance Reports.”

Pursuant to 49 U.S.C. 30118(d) and 30120(h), Continental Tire has petitioned for an exemption from the notification and remedy requirements of 49 U.S.C. Chapter 301 on the basis that this noncompliance is inconsequential to motor vehicle safety.

This notice of receipt of Continental Tire's petition is published under 49 U.S.C. 30118 and 30120 and does not represent any agency decision or other exercise of judgment concerning the merits of the petition.

Affected are a total of approximately 2,500 model 235/85R16 C Grabber TR tires manufactured in 2004 and 2005. S5.5(d) of FMVSS No. 139 requires that each tire must be marked on each sidewall with the maximum load rating. The noncompliant tires are marked on the sidewall “max load single 1380 kg (3042 lbs)” whereas the correct marking should be “max load single 1400 kg (3085 lbs).”

Continental Tire believes that the noncompliance is inconsequential to motor vehicle safety and that no corrective action is warranted. Continental Tire states,

All other sidewall identification markings and safety information is correct. A consumer acting on the incorrect information would underload the vehicle by 20 kg per tire. This incorrect load capacity molding does not affect the safety, performance and durability of the tire; the tire was built as designed.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: March 2, 2006.

Authority: (49 U.S.C. 30118, 30120: Delegations of authority at CFR 1.50 and 501.8)

Issued on: January 24, 2006.
Daniel C. Smith,
Associate Administrator for Enforcement.

[FR Doc. E6-1161 Filed 1-30-06; 8:45 am]

BILLING CODE 4910-59-P